DEPARTMENT OF DEFENSE

Office of the Secretary

Deputy Secretary of Defense Policy Memorandum, Subject: Ensuring the Quality of Information Disseminated to the Public by the Department of Defense, Dated February 10, 2003

AGENCY: Assistant Secretary of Defense for Command, Control, and Communications, DoD.

ACTION: Notice of availability.

SUMMARY: The Office of Management and Budget (OMB) has directed all government agencies to publish a notice in the Federal Register that their final guidelines for ensuring and maximizing the quality, objectivity, utility, and integrity of information disseminated to the public are available on their public Web sites. The Department of Defense memorandum provides policy and procedural guidance for DoD components in accordance with OMB directions. It also establishes administrative mechanisms that allow affected persons to seek and obtain correction of information maintained and disseminated by DoD components that may not meet the quality standards, assigns responsibilities, and delineates reporting requirements. The Policy Memorandum is available on the Assistant Secretary of Defense for Command, Control, Communications, and Intelligence public Web site, http://www.dod.mil.c3i/cio/index.html.

DATES: February 10, 2003.

ADDRESSES: Mr. Harold Heilsnis, OASD(PA), Office of the Assistant Secretary of Defense for Public Affairs, 1400 Defense Pentagon, Washington, DC 20301-1400.

FOR FURTHER INFORMATION CONTACT: Mr. Harold Heilsnis, OASD(PA), 703-325-4470, hheilsnis@hq.afis.osd.mil.

Dated: March 11, 2003.
Patricia L. Toppings,
Alternate OSD Federal Register Liaison Officer, Department of Defense.

[FR Doc. 03-7098 Filed 3-25-03; 8:45 am]

BILLING CODE 5001-08-M